DEPARTMENT OF DEFENSE

Department of the Army, Corps of Engineers

Announcement of Army Corps of Engineers Regional Listening Sessions

AGENCY: U.S. Army Corps of Engineers, DoD.

ACTION: Notice.

SUMMARY: The Army Corps of Engineers is initiating a dialogue with its stakeholders, the general public, and with federal, state, and local agencies about future water resources challenges facing the nation. The dialogue will entail a series of fourteen regional listening sessions to be conducted during the June-September, 2000 timeframe (see schedule below). Results from all of the public listening sessions will be compiled into a report assessing the current state of water resources in the U.S. and the gap that must be closed to meet future national needs. The information contained within the report will be provided to decision-makers and the public to help frame discussions about the need to address the nation's water resource needs for the 21st Century.

ADDRESSES: US Army Corps of Engineers, CEWRC-IWR-A, Casey Building, 7701 Telegraph Road, Alexandria, VA 22315-8435

FOR FURTHER INFORMATION CONTACT: Mr. Mark Gmitro, Program Manager, phone toll free (877) 447-6342 or if you're in Northern Virginia you can phone (703) 428-5835.

SUPPLEMENTARY INFORMATION: Each Regional Listening Session will be held as a facilitated workshop. The workshops will begin at approximately 10:00 a.m. and should end at approximately 4:00 p.m. In order to optimize the time available to all attendees, there will not be time for participants to provide prepared formal statements. However, written statements may be submitted via the web site address below, posted at a designated area during the workshop; or submitted to us before, at or after the workshop to be included in the published proceedings of the listening session.

Registration forms and additional information on the regional listening session is available on the Corps web site (www.wrsc.usace.army.mil/iwr/waterchallenges) or by calling our toll free number at (877) 447-6342 or if you're in Northern Virginia you can reach us at (703) 428-5835.

The following sessions are provided. For exact locations within each Division, and verification of dates and starting times, please visit the above web site.

Regional Listening Sessions

Date: June 16, 2000.

Time: 1 p.m.-5:30 p.m.

Host Division: Mississippi Valley Division.

Location: St. Louis, MO.

Date: June 20, 2000.

Time: 10 a.m.-4 p.m.

Host Division: South Pacific Division.

Location: Sacramento, CA.

Date: June 22, 2000.

Time: 10:00 a.m.-4:00 p.m.

Host Division: South Pacific Division.

Location: Phoenix, AZ.

Date: July 11, 2000.

Time: 10:00 a.m.-4:00 p.m.

Host Division: North Atlantic Division.

Location: Waltham, MA.

Date: July 18, 2000.

Time: 1:00 p.m.-5:30 p.m.

Host Division: Northwestern Division.

Location: Omaha, NE.

Date: July 20, 2000.

Time: 10:00 a.m.-4:00 p.m.

Host Division: South Atlantic Division.

Location: Atlanta, GA.

Date: July 26, 2000.

Time: 10:00 a.m.-4:00 p.m.

Host Division: Pacific Ocean Division.

Location: Honolulu, HI.

Date: August 2, 2000.

Time: 10:00-4:00 p.m.

Host Division: Great Lakes and Ohio Rivers Division.

Location: Chicago, IL.

Date: August 7, 2000.

Time: 10:00 a.m.-4:00 p.m.

Host Division: Great Lakes and Ohio Rivers Division.

Location: Louisville, KY.

Date: August 10, 2000.

Time: 10:00 a.m.-4:00 p.m.

Host Division: Southwestern Division.

Location: Dallas, TX.

Date: August 14, 2000.

Time: 10:00 a.m.-4:00 p.m.

Host Division: North Atlantic Division.

Location: Richmond, VA.

Date: August 17, 2000.

Time: 10:00 a.m.-4:00 p.m.

Host Division: North Atlantic Division.

Location: Absecon, NJ.

Date: September 15, 2000.

Time: 10:00 a.m.-4:00 p.m.

Host Division: Pacific Ocean Division.

Location: Anchorage, AK.

Date: September 19, 2000.

Time: 10:00 a.m.-4:00 p.m.

Host Division: Northwestern Division.

Location: Vancouver, WA.

The U.S. Army Corps of Engineers values your opinion. Please plan to attend! We look forward to receiving your RSVP and the opportunity to Join the Dialogue.

Robert A. Pietrowsky,
Acting Director, Institute for Water Resources.

[FR Doc. 00-13342 Filed 5-26-00; 8:45 am]

BILLING CODE 3710-92-U